FEDERAL RESERVE SYSTEM

Agency Information Collection Activities: Announcement of Board Approval Under Delegated Authority and Submission to OMB

SUMMARY: Background. Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer —Michelle Shore—Division of Research and Statistics, Board of Governors of the Federal Reserve System, Washington, DC 20551 (202-452-3829).

OMB Desk Officer—Shagufta Ahmed —Office of Information and Regulatory Affairs, Office of Management and Budget, New Executive Office Building, Room 10235, Washington, DC 20503.

Final approval under OMB delegated authority of the extension for three years, without revision, of the following reports:

1. Report title: Written Security Program for State Member Banks.

Agency form number: FR 4004.

OMB Control number: 7100-0112.

Frequency: On occasion.

Reporters: State member banks.

Estimated annual reporting hours: 22 hours.

Estimated average hours per response: 0.5 hours.

Number of respondents: 43.

General description of report: This recordkeeping requirement is mandatory pursuant to section 3 of the Bank Protection Act [12 U.S.C. 1882(a)] and Regulation H [12 CFR 208.61]. Because written security programs are maintained at state member banks, no issue of confidentiality under the Freedom of Information Act normally arises. However, copies of such documents included in examination work papers would, in such form, be confidential pursuant to exemption 8 of the Freedom of Information Act [5 U.S.C. 552(b)(8)].

Abstract: Each state member bank must develop and implement a written security program and maintain it in the bank's records. This program should include a requirement to install security devices and should establish procedures that satisfy minimum standards in the regulation, with the security officer determining the need for additional security devices and procedures based on the location of the banking office. There is no formal reporting form and the information is not submitted to the Federal Reserve.

Current Actions: On February 2, 2010, the Federal Reserve published a notice in the Federal Register (75 FR 5320) requesting public comment for 60 days on the extension, without revision, of the FR 4004. The comment period for this notice expired on April 5, 2010. No comments were received.

2. Report title: Uniform Application for Municipal Securities Principal or Municipal Securities Representative Associated with a Bank Municipal Securities Dealer; Uniform Termination Notice for Municipal Securities Principal or Municipal Securities Representative Associated with a Bank Municipal Securities Dealer.

Agency form number: FR MSD-4 and FR MSD-5.

OMB control number: 7100-0100 and 7100-0101.

Frequency: On occasion.

Reporters: State member banks and foreign dealer banks engaging in activities as municipal securities dealers.

Estimated annual reporting hours: FR MSD-4, 48 hours; and FR MSD-5, 36 hours.

Estimated average hours per response: FR MSD-4, 1 hour; and FR MSD-5, 0.25 hours.

Number of respondents: FR MSD-4, 48; and FR MSD-5, 144.

General description of report: These information collections are mandatory pursuant to the Federal Reserve Act (12 U.S.C. 248(a)(1)) for state member banks and (12 U.S.C. 3105(c)(2)) for foreign bank branches and agencies and are given confidential treatment (5 U.S.C. 552(b)(6)).

Abstract: The FR MSD-4 collects information, such as personal history and professional qualifications, on an employee whom the bank wishes to assume the duties of a municipal securities principal or representative. The FR MSD-5 collects the date of, and reason for, termination of such an employee.

Current Actions: On February 2, 2010, the Federal Reserve published a notice in the Federal Register (75 FR 5320) requesting public comment for 60 days on the extension, without revision, of the FR MSD-4 and FR MSD-5. The comment period for this notice expired on April 5, 2010. No comments were received.

3. Report title: Notice By Financial Institutions of Government Securities Broker or Government Securities Dealer Activities; Notice By Financial Institutions of Termination of Activities as a Government Securities Broker or Government Securities Dealer.

Agency form number: FR G-FIN and FR G-FINW.

OMB control number: 7100-0224.

Frequency: On occasion.

Reporters: State member banks, foreign banks, uninsured state branches or state agencies of foreign banks, commercial lending companies owned or controlled by foreign banks, and Edge corporations.

Estimated annual reporting hours: FR G-FIN, 10 hours; and FR G-FINW, 2 hours.

Estimated average hours per response: FR G-FIN, 1 hour; and FR G-FINW, 0.25 hours.

Number of respondents: FR G-FIN, 10; and FR G-FINW, 8.

General description of report: These information collections are mandatory pursuant to the Securities and Exchange Act of 1934 (15 U.S.C. 78o-5(a)(1)(B)) and are not given confidential treatment.

Abstract: The Government Securities Act of 1986 (the Act) requires financial institutions to notify their appropriate regulatory authority of their intent to engage in government securities broker or dealer activity, to amend information submitted previously, and to record their termination of such activity. The Federal Reserve Board uses the information in its supervisory capacity to measure compliance with the Act.

Current Actions: On February 2, 2010, the Federal Reserve published a notice in the Federal Register (75 FR 5320) requesting public comment for 60 days on the extension, without revision, of the FR G-FIN and FR G-FINW. The comment period for this notice expired on April 5, 2010. No comments were received.

Board of Governors of the Federal Reserve System, April 12, 2010.
Jennifer J. Johnson,
Secretary of the Board.

[FR Doc. 2010-8675 Filed 4-15-10; 8:45 am]

BILLING CODE 6210-01-P